DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having an effect in order to qualify or remain qualified for participation in the Federal Emergency Management Agency's (FEMA's) National Flood Insurance Program (NFIP).

DATES: The date of November 28, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Elizabeth Asche,
Assistant Administrator, Federal Insurance Directorate, Resilience, Federal Emergency Management Agency, Department of Homeland Security.

Community | Community map repository address
Pinal County, Arizona and Incorporated Areas
Docket No.: FEMA-B-2440
City of Apache Junction | City Hall, 300 East Superstition Boulevard, Apache Junction, AZ 85119.
Unincorporated Areas of Pinal County | Pinal County Community Development Department, 85 North Florence Street, Florence, AZ 85132.
Chickasaw County, Mississippi and Incorporated Areas
Docket No.: FEMA-B-2414
City of Okolona | City Hall, 215 West Main Street, Okolona, MS 38860.
Unincorporated Areas of Chickasaw County | Chickasaw County Emergency Management, 210 East Harrington Street, Houston, MS 38851.
Clay County, Mississippi and Incorporated Areas
Docket No.: FEMA-B-2414
Unincorporated Areas of Clay County | Clay County Courthouse, 365 Court Street, West Point, MS 39773.
Itawamba County, Mississippi and Incorporated Areas
Docket No.: FEMA-B-2414
Town of Tremont | Town Hall, 12761 Highway 23 North, Tremont, MS 38876.
Unincorporated Areas of Itawamba County | Itawamba County Courthouse, 201 West Main Street, Fulton, MS 38843.
Lee County, Mississippi and Incorporated Areas
Docket No.: FEMA-B-2436
City of Baldwyn | City Hall, 200 West Main Street, Baldwyn, MS 38824.
Unincorporated Areas of Lee County | Lee County Courthouse, 201 West Jefferson Street, Suite A, Tupelo, MS 38801.
Lowndes County, Mississippi and Incorporated Areas
Docket No.: FEMA-B-2436
City of Columbus | Building Department Inspections, 1621 Main Street, Columbus, MS 39701.
Unincorporated Areas of Lowndes County | Lowndes County Building Inspection Office, 17 Airline Road, Columbus, MS 39701.
Monroe County, Mississippi and Incorporated Areas
Docket No.: FEMA-B-2436
City of Aberdeen | City Hall, 125 West Commerce Street, Aberdeen, MS 39730.
City of Amory | City Hall, 109 South Front Street, Amory, MS 38821.
Town of Smithville | Town Hall, 63443 Highway 25 North, Smithville, MS 38870.
Unincorporated Areas of Monroe County | Monroe County Courthouse, 201 West Commerce Street, Aberdeen, MS 39730.
Prentiss County, Mississippi and Incorporated Areas
Docket No.: FEMA-B-2436
City of Booneville | City Hall, 203 North Main Street, Booneville, MS 38829.
Unincorporated Areas of Prentiss County | Prentiss County Chancery Building, 100 North Main Street, Booneville, MS 38829.
Tishomingo County, Mississippi and Incorporated Areas
Docket No.: FEMA-B-2436
Town of Belmont | Tishomingo County Courthouse, 1008 Battleground Drive, Iuka, MS 38852.
Town of Tishomingo | Tishomingo County Courthouse, 1008 Battleground Drive, Iuka, MS 38852.
Unincorporated Areas of Tishomingo County | Tishomingo County Courthouse, 1008 Battleground Drive, Iuka, MS 38852.
Village of Paden | Tishomingo County Courthouse, 1008 Battleground Drive, Iuka, MS 38852.
Bledsoe County, Tennessee and Incorporated Areas
Docket No.: FEMA-B-2422
Unincorporated Areas of Bledsoe County | Bledsoe County Courthouse, 3150 Main Street, Suite 100, Pikeville, Tennessee 37367.
Bradley County, Tennessee and Incorporated Areas
Docket No.: FEMA-B-2422
City of Cleveland | Development and Engineering Services Department, 185 2nd Street Northeast, Cleveland, TN 37311.
Unincorporated Areas of Bradley County | Bradley County Courthouse Annex Basement, 155 Broad Street Northwest, Cleveland, TN 37311.
Hamilton County, Tennessee and Incorporated Areas
Docket No.: FEMA-B-2422
City of Chattanooga | Zoning Office, 1250 Market Street, Suite 1000, Chattanooga, TN 37402.
City of Collegedale | City Hall, 4910 Swinyar Drive, Collegedale, TN 37315.
City of East Ridge | City Hall, 1517 Tombras Avenue, East Ridge, TN 37412.
City of Lakesite | City Hall, 9201 Rocky Point Road, Lakesite, TN 37379.
City of Red Bank | City Hall, 3105 Dayton Boulevard, Red Bank, TN 37415.
City of Soddy-Daisy | City Hall, 9835 Dayton Pike, Soddy-Daisy, TN 37379.
Town of Lookout Mountain | Town Hall, 710 Scenic Highway, Lookout Mountain, TN 37350.
Town of Signal Mountain | Town Hall, 1111 Ridgeway Avenue, Signal Mountain, TN 37377.
Unincorporated Areas of Hamilton County | Hamilton County Engineering Department, 4005 Cromwell Road, Chattanooga, TN 37421.
Marion County, Tennessee and Incorporated Areas
Docket No.: FEMA-B-2422
Town of Jasper | City Hall, 32 Courthouse Square, Jasper, TN 37347.
Town of New Hope | New Hope Town Hall, 2610 Highway 156, South Pittsburg, TN 37380.
Unincorporated Areas of Marion County | Marion County Annex Building, 24 Courthouse Square, Jasper, TN 37347.
McMinn County, Tennessee and Incorporated Areas
Docket No.: FEMA-B-2422
Unincorporated Areas of McMinn County | McMinn County Emergency Operations Center, 1107 South Congress Parkway, Athens, TN 37303.
Meigs County, Tennessee and Incorporated Areas
Docket No.: FEMA-B-2422
Town of Decatur | Town Hall, 116 North Main Street, Decatur, TN 37322.
Unincorporated Areas of Meigs County | Meigs County Courthouse, 17214 State Highway 58 North, Decatur, TN 37322.
Rhea County, Tennessee and Incorporated Areas
Docket No.: FEMA-B-2422
City of Dayton | City Hall, 399 1st Avenue, Dayton, TN 37321.
City of Graysville | City Hall, 136 Harrison Avenue, Graysville, TN 37338.
Unincorporated Areas of Rhea County | Rhea County Courthouse, 375 Church Street, Dayton, TN 37321.
Roane County, Tennessee and Incorporated Areas
Docket No.: FEMA-B-2422
Unincorporated Areas of Roane County | Roane County Building Codes and Zoning, 308 North 3rd Street, Kingston, TN 37763.
Sequatchie County, Tennessee and Incorporated Areas
Docket No.: FEMA-B-2422
Unincorporated Areas of Sequatchie County | Sequatchie County Clerk's Office, 15 Cherry Street, Dunlap, TN 37327.

[FR Doc. 2025-12747 Filed 7-8-25; 8:45 am]

BILLING CODE 9110-12-P